GENERAL SERVICES ADMINISTRATION

[FMR Bulletin 2004-B6]

Federal Management Regulation; Motor Vehicle Management

AGENCY: Office of Governmentwide Policy (MTV), GSA

ACTION: Notice of a bulletin.

SUMMARY: The attached bulletin reminds Fleet programs of Federal agencies that when replacing agency-owned vehicles under the Exchange/Sale provisions of the Federal Management Regulation (FMR), sale proceeds are retainable as provided under and in compliance with those provisions for purchasing replacement vehicles. As a source of funding for replacement vehicles additional to other Fleet program funding, the availability of sale proceeds should not be overlooked.

EFFECTIVE DATE: This bulletin is effective October 22, 2004.

FOR FURTHER INFORMATION CONTACT: Myles Schulberg, General Services Administration, Office of Governmentwide Policy (MTV), Washington, DC 20405; e-mail, myles.schulberg@gsa.gov, telephone (202) 208-7642.

SUPPLEMENTARY INFORMATION: Briefings by some agencies on their Fleet program to the General Services Administration Vehicle Management Policy Division have lacked assurance that the Fleet program, when replacing agency-owned vehicles, under the Exchange/Sale provision of the FMR, has been retaining the sale proceeds, as prescribed in 41 CFR part 102-39, for purchasing replacement vehicles.

Dated: October 22, 2004.
G. MARTIN WAGNER,
Associate Administrator,Office of Governmentwide Policy.

GENERAL SERVICES ADMINISTRATION

[FMR Bulletin 2004-B6]

Federal Management Regulation; Motor Vehicle Management

TO: Heads of Federal agencies

SUBJECT: Proceeds from Sale of Agency-Owned Vehicles

1. What is the purpose of this bulletin? This bulletin is a reminder for the Fleet programs of Federal agencies that when replacing agency-owned vehicles under the Exchange/Sale provisions of the Federal Management Regulation (FMR), sale proceeds are retainable as provided under and in compliance with those provisions for purchasing replacement vehicles.

2. What is the effective date of this bulletin? This bulletin is effective October 22, 2004.

3. When does this bulletin expire? This bulletin will remain in effect until specifically cancelled.

4. What is the background? Briefings by some agencies on their Fleet program to the General Services Administration Vehicle Management Policy Division have lacked assurance that when replacing agency-owned vehicles under the Exchange/Sale provisions of the FMR, the Fleet program has been retaining the sale proceeds as prescribed in 41 CFR part 102-39, for purchasing replacement vehicles. As a source of funding for replacement vehicles additional to other Fleet program funding, the availability of sale proceeds should not be overlooked.

5. What must I do as a result of this bulletin? Within the Federal agencies, when replacing agency-owned vehicles under the Exchange/Sale provisions of the FMR, Fleet and Finance programs need work together to ensure retention of sale proceeds as prescribed in 41 CFR part 102-39, for replacement vehicles.

6. Who should we contact for further information and/or to direct comments regarding proceeds from sale of agency-owned vehicles?

General Services Administration,Office of Governmentwide Policy,Vehicle Management Policy Division (MTV),Washington, DC 20405,Telephone Number: 202-501-1777,E-mail Address: vehicle.policy@gsa.gov.

[FR Doc. 04-24229 Filed 10-28-04; 8:45 am]

BILLING CODE 6820-14-S